DEPARTMENT OF HEALTH AND HUMAN SERVICES

Centers for Medicare and Medicaid Services

42 CFR Part 488

Survey, Certification, and Enforcement Procedures

CFR Correction

This rule is being published by the Office of the Federal Register to correct an editorial or technical error that appeared in the most recent annual revision of the Code of Federal Regulations.

In Title 42 of the Code of Federal Regulations, parts 482 to end, revised as of October 1, 2021, in § 488.5, remove paragraph (a)(21).

[FR Doc. 2022-13993 Filed 6-28-22; 8:45 am]

BILLING CODE 0099-10-P